ENVIRONMENTAL PROTECTION AGENCY

40 CFR Part 63

[OAR-2002-0084; FRL-7808-2]

National Emission Standards for Hazardous Air Pollutants for Secondary Aluminum Production

AGENCY: Environmental Protection Agency (EPA).

ACTION: Direct final rule; amendments.

SUMMARY: On March 23, 2000, EPA promulgated national emission standards for hazardous air pollutants (NESHAP) for secondary aluminum production under section 112 of the Clean Air Act (CAA), and on September 24, 2002, and on December 30, 2002, we published final amendments to the standards based on two separate settlement agreements. These amendments further clarify regulatory text, correct errors, and improve understanding of the rule requirements as promulgated. We are making the amendments by direct final rule, without prior proposal, because we view the revisions as noncontroversial and anticipate no adverse comments.

DATES: This direct final rule is effective on November 2, 2004 without further notice, unless EPA receives adverse written comment by October 4, 2004 or if a public hearing is requested by September 13, 2004. If EPA receives such comments, it will publish a timely withdrawal in the Federal Register indicating which provisions will become effective and which provisions are being withdrawn due to adverse comment.

ADDRESSES: EPA has established a docket for this action under Docket ID No. OAR-2002-0084. All documents in the docket are listed in the EDOCKET index at http://www.epa.gov/edocket. Although listed in the index, some information is not publicly available, i.e., confidential business information or other information whose disclosure is restricted by statute. Certain other material, such as copyrighted material, is not placed on the Internet and will be publicly available only in hard copy form. Publicly available docket materials are available either electronically in EDOCKET or in hard copy at the Air and Radiation Docket and Information Center, EPA/DC, EPA West, Room B102, 1301 Constitution Ave., NW., Washington, DC. The Public Reading Room is open from 8:30 a.m. to 4:30 p.m., Monday through Friday, excluding legal holidays. The telephone number for the Public Reading Room is (202) 566-1744, and the telephone number for the Air and Radiation Docket and Information Center is (202) 566-1742.

FOR FURTHER INFORMATION CONTACT: Mr. Joseph Wood, P.E., U.S. EPA, Minerals and Inorganic Chemicals Group (C-504-05), Emission Standards Division, Office of Air Quality Planning and Standards, Research Triangle Park, North Carolina 27711, telephone number (919) 541-5446, facsimile number (919) 541-5600, electronic mail address: wood.joe@epa.gov.

SUPPLEMENTARY INFORMATION: Regulated Entities. This action does not affect the applicability of the existing rule as amended on December 30, 2002 (67 FR 79808). Categories and entities potentially regulated by this action include:

Category | NAICS ¹ | Examples of regulated entities
Industry | 331314 | Secondary smelting and alloying of aluminum facilities. Secondary aluminum production facility affected sources that are collocated at:
| 331312 | Primary aluminum production facilities.
| 331315 | Aluminum sheet, plate, and foil manufacturing facilities.
| 331316 | Aluminum extruded product manufacturing facilities.
| 331319 | Other aluminum rolling and drawing facilities.
| 331521 | Aluminum die casting facilities.
| 331524 | Aluminum foundry facilities.
¹ North American Industry Classification System.

This table is not intended to be exhaustive, but rather provides a guide for readers regarding entities likely to be regulated by this action. To determine whether your facility is regulated by this action, you should examine the applicability criteria in § 63.1500 of the secondary aluminum production NESHAP. If you have any questions regarding the applicability of this action to a particular entity, consult the person listed in the preceding FOR FURTHER INFORMATION CONTACT section.

Worldwide Web (WWW). In addition to being available in the docket, an electronic copy of today's correcting amendments will also be available on the WWW through the Technology Transfer Network (TTN). Following signature, a copy of this action will be posted on the TTN's policy and guidance page for newly proposed rules or promulgated rules at http://www.epa.gov/ttn/oarpg. The TTN provides information and technology exchange in various areas of air pollution control. If more information regarding the TTN is needed, call the TTN HELP line at (919) 541-5384.

Comments. We are publishing the direct final rule without prior proposal because we view the amendments as noncontroversial and do not anticipate adverse comments. We consider the changes to be noncontroversial because we are correcting errors in equations to ensure that the proper units are used; correcting typographical and printing errors; making minor changes for clarification and consistency within the rule; and eliminating an erroneous reference to a reporting requirement. However, in the Proposed Rules section of this Federal Register, we are publishing a separate document that will serve as the proposal in the event that timely and significant adverse comments are received.

If we receive any relevant adverse comments on the amendments, we will publish a timely withdrawal in the Federal Register informing the public which provisions will become effective and which provisions are being withdrawn due to adverse comment. We will address all public comments in a subsequent final rule based on the proposed rule. Any of the distinct amendments in the direct final rule for which we do not receive adverse comment will become effective on the date set out above. We will not institute a second comment period on the direct final rule. Any parties interested in commenting must do so at this time.

Judicial Review. Under section 307(b)(1) of the CAA, judicial review of the direct final rule is available only by filing a petition for review in the U.S. Court of Appeals for the District of Columbia Circuit by November 2, 2004. Under section 307(d)(7)(B) of the CAA, only an objection to the direct final rule that was raised with reasonable specificity during the period for public comment can be raised during judicial review. Moreover, under section 307(b)(2) of the CAA, the requirements established by the direct final rule may not be challenged separately in any civil or criminal proceedings brought by the EPA to enforce these requirements.

Outline. The following outline is provided to aid in reading this preamble to this direct final rule.

I. Background

II. Amendments to the NESHAP

III. Statutory and Executive Order Reviews

A. Executive Order 12866: Regulatory Planning and Review

B. Paperwork Reduction Act

C. Regulatory Flexibility Act

D. Unfunded Mandates Reform Act

E. Executive Order 13132: Federalism

F. Executive Order 13175: Consultation and Coordination with Indian Tribal Governments

G. Executive Order 13045: Protection of Children From Environmental Health Risks and Safety Risks

H. Executive Order 13211: Actions Concerning Regulations That Significantly Affect Energy Supply, Distribution, or Use

I. National Technology Transfer and Advancement Act

J. Congressional Review Act

I. Background

On March 23, 2000 (63 FR 15690), we promulgated the NESHAP for secondary aluminum production (40 CFR part 63, subpart RRR). Those standards were established under the authority of section 112(d) of the CAA to reduce emissions of hazardous air pollutants (HAP) from major and area sources.

After promulgation of the NESHAP for secondary aluminum production, two petitions for judicial review of the standards were filed in the D.C. Circuit Court of Appeals. The first of these petitions was filed by the American Foundrymen's Society, the North American Die Casting Association, and the Non-Ferrous Founders' Society (American Foundrymen's Society et al. v. U.S. EPA, Civ. No 00-1208 (D.C. Cir.)). A second petition for judicial review was filed by the Aluminum Association (The Aluminum Association v. U.S. EPA, No. 00-1211 (D.C. Cir.)). There was no significant overlap in the issues presented by the two petitions, and the cases have never been consolidated. However, we did thereafter enter into separate settlement discussions with the petitioners in each case.

The Foundrymen's case presented issues concerning the applicability of 40 CFR part 63, subpart RRR, to aluminum die casters and aluminum foundries which were considered during the initial rulemaking development. Because aluminum die casters and foundries sometimes conduct the same type of operations as other secondary aluminum producers, we originally intended to apply the standards to those facilities, but only in those instances where they conduct such operations. However, representatives of the affected facilities argued that they should not be considered to be secondary aluminum producers and should be wholly exempt from the secondary aluminum production NESHAP. During the rulemaking development, we decided to permit die casters and foundries to melt contaminated internal scrap without being considered to be secondary aluminum producers, but their representatives insisted that too many facilities would still be subject to the NESHAP. At promulgation of the standards, in response to a request by the die casters and foundries, we announced we would withdraw the standards as applied to die casters and foundries and develop separate maximum achievable control technology (MACT) standards for those facilities.

After the Foundrymen's case was filed, we negotiated an initial settlement agreement in that case which established a process to effectuate our commitment to develop new MACT standards. In that initial settlement, EPA agreed that it would stay the current standards for those facilities, collect comprehensive data to support alternate standards, and promulgate alternate standards. We then published a proposal to stay the standards for those facilities (65 FR 55491, September 14, 2000) and an advance notice of proposed rulemaking (ANPR) announcing new standards for aluminum die casters and foundries (65 FR 55489, September 14, 2000).

During the subsequent process of preparing for information collection, the petitioners concluded that the existing standards were not as sweeping in applicability as they had feared, and the parties then agreed to explore an alternate approach to settlement based on clarifications of the existing standards. We subsequently reached agreement with the Foundrymen's petitioners on a new settlement which entirely supplanted the initial settlement. Accordingly, we published a notice withdrawing the proposed stay of the existing standards for aluminum die casters and foundries and announcing that we would take no further action on new standards for those facilities (67 FR 41138, June 14, 2002).

In the new settlement, we agreed to propose some changes in the applicability provisions of the existing standards concerning aluminum die casters and foundries. The changes included permitting customer returns without paints or solid coatings to be treated like internal scrap, and permitting facilities operated by the same company at different locations to be aggregated for purposes of determining what is internal scrap. The revisions of the applicability criteria were proposed on June 14, 2002 (67 FR 41125) and adopted on December 30, 2002 (67 FR 79808).

In the new Foundrymen's settlement, we also agreed to defer the compliance date for new sources constructed or reconstructed at existing aluminum die casters, foundries, and extruders until the compliance date for existing sources so that the rulemaking on general applicability issues could be completed first. We took final action concerning that element of the new Foundrymen's settlement in a final rule published on September 24, 2002 (67 FR 59787).

In entirely separate discussions, we also agreed on a settlement of the Aluminum Association case. That settlement required that we propose a number of substantive clarifications and revisions of the standards, which were also adopted in the final rule on December 30, 2002 (67 FR 79808). The Aluminum Association settlement also required that we clarify and simplify the compliance dates for the standards and defer certain early compliance obligations which might otherwise come due during the rulemaking process. We took final action concerning those compliance issues in the final rule published on September 24, 2002 (67 FR 59787).

II. Amendments to the NESHAP

Today's direct final amendments revise the secondary aluminum production NESHAP (40 CFR part 63, subpart RRR) as follows:

• In § 63.1503, we are deleting the definition of “Internal runaround” and replacing it with the definition of “Runaround scrap.”

• In § 63.1506, we are including units for emissions of dioxin/furans (D/F) to clarify that the requirements for measurement of feed/charge weight apply to facilities subject to emission limits for D/F, as well as emission limits for other pollutants. The proper units for measurement of D/F emissions for the standards are micrograms per megagram (μg/Mg) or grains per ton (gr/ton). We are also amending the operating requirement for dross-only furnaces in § 63.1506(i)(3) to be consistent with the definition for this type of furnace in § 63.1503. The revised requirement states that the owner or operator must operate each furnace using dross and salt flux as the sole feedstock.

• In Equation 4 of § 63.1510, we are amending the definition of “Ti” (the total amount of feed or aluminum produced for the emission unit for the 24-hour period) in paragraph (t)(4) to state the proper units. Because “ERi” (the measured emission rate for the unit) can be either pounds per ton (lb/ton) or μg/Mg, the definition of “Ti” should be in units of tons or Mg instead of only tons.

• In § 63.1512, we are amending paragraph (g) to state that the testing for dross-only furnaces is to be performed while the unit processes only dross and salt flux. This change will make the testing requirement consistent with the definition of “dross-only furnace.”

• In § 63.1513, we are amending Equation 7 to apply only to particulate matter (PM) and hydrogen chloride (HCl) emissions and adding a separate equation (7A) for computing D/F emissions in the appropriate measurement units for the standards (μg/Mg or gr/ton). This change will avoid confusion that may result from the differences in measurement units for D/F and PM or HCl.

• In § 63.1516, we are amending the requirements for the semiannual excess emissions/summary report such that the owner or operator must submit semiannual reports according to the requirements in § 63.10(e)(3), but the reports are due within 60 days after the end of each 6-month period instead of within 30 days after the calendar half as required by § 63.10(e)(3)(v). When no deviations of parameters have occurred, the owner or operator must submit a report stating that no excess emissions occurred during the reporting period. We are also amending the certification requirements for dross-only furnaces in § 63.1516(b)(2)(ii) to state that only dross and salt flux were used as the charge material during the reporting period. This change will make the certification statement consistent with the definition of “dross-only furnace.”

• In table 2 to subpart RRR, we are correcting a typographical error and revising the measurement units cited for the flux injection rate. The revised units for the flux injection rate are kilograms per megagram (kg/Mg) or (lb/ton) rather than pound per hour (lb/hr).

The direct final amendments correct a typographical error in table 3 to subpart RRR, revise the table of contents to correct typographical and printing errors, and also revise appendix A to subpart RRR (General Provisions Applicability to Subpart RRR) to add a note in the comment column.

III. Statutory and Executive Order Reviews

A. Executive Order 12866: Regulatory Planning and Review

Under Executive Order 12866 (58 FR 51735, October 4, 1993), the EPA must determine whether the regulatory action is “significant” and therefore subject to review by the Office of Management and Budget (OMB) and the requirements of the Executive Order. The Executive Order defines a “significant regulatory action” as one that is likely to result in a rule that may:

(1) Have an annual effect on the economy of $100 million or more or adversely affect in a material way the economy, a sector of the economy, productivity, competition, jobs, the environment, public health or safety, or State, local, or tribal governments or communities;

(2) Create a serious inconsistency or otherwise interfere with an action taken or planned by another agency;

(3) Materially alter the budgetary impact of entitlement, grants, user fees, or loan programs or the rights and obligations of recipients thereof; or

(4) Raise novel legal or policy issues arising out of legal mandates, the President's priorities, or the principles set forth in the Executive Order.

It has been determined that the direct final amendments are not a “significant regulatory action” under the terms of Executive Order 12866 and are therefore not subject to OMB review.

B. Paperwork Reduction Act

The OMB has previously approved the information collection requirements in the existing rule (subpart RRR) under the provisions of the Paperwork Reduction Act, 44 U.S.C. 3501 et seq. and assigned OMB control number 2060-0433. The direct final amendments have no impact on the existing information collection burden estimates. Consequently, the ICR has not been revised.

C. Regulatory Flexibility Act

The EPA has determined that it is not necessary to prepare a regulatory flexibility analysis in conjunction with the direct final amendments. The EPA has also determined that the amendments will not have a significant economic impact on a substantial number of small entities and do not pose any requirements or costs on any firm, large or small. Small entities include small businesses, small not-for-profit enterprises, and small governmental jurisdictions.

For purposes of assessing the impacts of today's direct final amendments on small entities, a small entity is defined as: (1) A small business whose parent company has fewer than 500 employees; (2) a small governmental jurisdiction that is a government of a city, county, town, school district or special district with a population of less than 50,000; or (3) a small organization that is any not-for-profit enterprise which is independently owned and operated and is not dominant in its field.

After considering the economic impacts of today's direct final amendments on small entities, the EPA has concluded that this action will not have a significant economic impact on a substantial number of small entities.

D. Unfunded Mandates Reform Act

Title II of the Unfunded Mandates Reform Act of 1995 (UMRA), Public Law 104-4, establishes requirements for Federal agencies to assess the effects of their regulatory actions on State, local, and tribal governments and the private sector. Under section 202 of the UMRA, the EPA generally must prepare a written statement, including a cost-benefit analysis, for proposed and final rules with “Federal mandates” that may result in expenditures by State, local, and tribal governments, in the aggregate, or by the private sector, of $100 million or more in any 1 year. Before promulgating an EPA rule for which a written statement is needed, section 205 of the UMRA generally requires the EPA to identify and consider a reasonable number of regulatory alternatives and adopt the least costly, most cost-effective, or least-burdensome alternative that achieves the objectives of the rule. The provisions of section 205 do not apply when they are inconsistent with applicable law. Moreover, section 205 allows the EPA to adopt an alternative other than the least-costly, most cost-effective, or least-burdensome alternative if the Administrator publishes with the final rule an explanation why that alternative was not adopted. Before the EPA establishes any regulatory requirements that may significantly or uniquely affect small governments, including tribal governments, it must have developed under section 203 of the UMRA a small government agency plan. The plan must provide for notifying potentially affected small governments, enabling officials of affected small governments to have meaningful and timely input in the development of EPA regulatory proposals with significant Federal intergovernmental mandates, and informing, educating, and advising small governments on compliance with the regulatory requirements.

This action contains no Federal mandates (under the regulatory provisions of title II of the UMRA) for State, local, or tribal governments. The EPA has determined that the direct final amendments do not contain a Federal mandate that may result in estimated costs of $100 million or more to either State, local, or tribal governments, in the aggregate, or to the private sector in any 1 year. No costs are attributable to the amendments. In addition, the amendments do not significantly or uniquely affect small governments because they contain no requirements that apply to such governments or impose obligations upon them. Therefore, the requirements of the UMRA do not apply to the direct final amendments.

E. Executive Order 13132: Federalism

Executive Order 13132 (64 FR 43255, August 10, 1999) requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.”

Under section 6 of Executive Order 13132, EPA may not issue a regulation that has federalism implications, that imposes substantial direct compliance costs, and that is not required by statute, unless the Federal government provides the funds necessary to pay the direct compliance costs incurred by State and local governments, or EPA consults with State and local officials early in the process of developing the proposed regulation. The EPA also may not issue a regulation that has federalism implications and that preempts State law unless the EPA consults with State and local officials early in the process of developing the proposed regulation.

The direct final amendments do not have federalism implications. They do not have substantial direct effects on the States, on the relationship between the national government and the States, or on the distribution of power and responsibilities among the various levels of government, as specified in Executive Order 13132. None of the affected plants are owned or operated by State governments. Thus, the requirements of section 6 of the Executive Order do not apply to the direct final amendments.

F. Executive Order 13175: Consultation and Coordination With Indian Tribal Governments

Executive Order 13175 (65 FR 67249, November 6, 2000) requires EPA to develop an accountable process to ensure “meaningful and timely input by tribal officials in the development of regulatory policies that have tribal implications.” “Policies that have tribal implications” is defined in the Executive Order to include regulations that have “substantial direct effects on one or more Indian tribes, on the relationship between the Federal government and Indian tribes.”

The direct final amendments do not have tribal implications. They do not have substantial direct effects on tribal governments, on the relationship between the Federal government and Indian tribes, or on the distribution of power and responsibilities between the Federal government and Indian tribes, as specified in Executive Order 13175. No tribal governments own plants subject to the existing rule or to the direct final amendments. Thus, Executive Order 13175 does not apply to the direct final amendments.

G. Executive Order 13045: Protection of Children from Environmental Health & Safety Risks

Executive Order 13045 (62 FR 19885, April 23, 1997) applies to any rule that: (1) Is determined to be “economically significant,” as defined under Executive Order 12866, and (2) concerns an environmental health or safety risk that EPA has reason to believe may have a disproportionate effect on children. If the regulatory action meets both criteria, we must evaluate the environmental health or safety effects of the planned rule on children and explain why the planned regulation is preferable to other potentially effective and reasonably feasible alternatives.

We interpret Executive Order 13045 as applying only to those regulatory actions that are based on health or safety risks, such that the analysis required under section 5-501 of the Executive Order has the potential to influence the regulation. The direct final amendments are not subject to Executive Order 13045 because the existing rule is based on technology performance and not on health or safety risks.

H. Executive Order 13211: Actions That Significantly Affect Energy Supply, Distribution, or Use

The direct final amendments are not subject to Executive Order 13211 (66 FR 28355, May 22, 2001) because they are not a significant regulatory action under Executive Order 12866.

I. National Technology Transfer and Advancement Act

Section 12(d) of the National Technology Transfer and Advancement Act (NTTAA) of 1995 (Pub. L. 104-113; 15 U.S.C 272 note), directs EPA to use voluntary consensus standards in their regulatory and procurement activities unless to do so would be inconsistent with applicable law or otherwise impracticable. Voluntary consensus standards are technical standards (such as material specifications, test methods, sampling procedures, business practices) developed or adopted by one or more voluntary consensus bodies. The NTTAA requires Federal agencies to provide Congress, through annual reports to OMB, with explanations when an agency does not use available and applicable voluntary consensus standards.

The EPA's response to the NTTAA requirements are discussed in the preamble to the final rule (65 FR 15690, March 23, 2000). The direct final amendments do not change the required methods or procedures.

J. Congressional Review Act

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this action and other required information to the U.S. Senate, the U.S. House of Representatives, and the Comptroller General of the United States prior to publication of the correcting amendments in the Federal Register. The direct final amendments are not a “major rule” as defined by 5 U.S.C. 804(2).

List of Subjects in 40 CFR Part 63

Environmental protection, Administrative practice and procedure, Air pollution control, Reporting and recordkeeping requirements.

Dated: August 25, 2004.
Michael O. Leavitt,
Administrator.

For the reasons stated in the preamble, title 40, chapter I, part 63 of the Code of Federal Regulations is amended as follows:

PART 63—[AMENDED]

1. The authority citation for part 63 continues to read as follows:

Authority: 42 U.S.C. 7401 et seq.

Subpart RRR—[Amended]

§ 63.1503 [Amended]

2. Section 63.1503 is amended by removing the definition for the term, “Internal runaround.”

3. Section 63.1506 is amended by revising paragraphs (d) and (i)(3) to read as follows:

§ 63.1506 Operating requirements.

* * * * *

(d) Feed/charge weight. The owner or operator of each affected source or emission unit subject to an emission limit in kg/Mg (lb/ton) or μg/Mg (gr/ton) of feed/charge must:

* * * * *

(i) * * *

(3) Operate each furnace using dross and salt flux as the sole feedstock.

* * * * *

4. Section 63.1510 is amended by revising the definition of “Ti” for Equation 4 in paragraph (t)(4) to read as follows:

§ 63.1510 Monitoring requirements.

* * * * *

(t) * * *

(4) * * *

Where:

* * * * *

Ti = The total amount of feed, or aluminum produced, for emission unit i for the 24-hour period (tons or Mg);

* * * * *

5. Section 63.1512 is amended by revising paragraph (g) to read as follows:

§ 63.1512 Performance test/compliance demonstration requirements and procedures.

* * * * *

(g) Dross-only furnace. The owner or operator must conduct a performance test to measure emissions of PM from each dross-only furnace at the outlet of each control device while the unit processes only dross and salt flux as the sole feedstock.

* * * * *

6. Section 63.1513 is amended by revising paragraph (b) to read as follows:

§ 63.1513 Equations for determining compliance.

* * * * *

(b) PM, HCl and D/F emission limits. (1) Use Equation 7 of this section to determine compliance with an emission limit for PM or HCl:

Where:

E = Emission rate of PM or HCl, kg/Mg (lb/ton) of feed;

C = Concentration of PM or HCl, g/dscm (gr/dscf);

Q = Volumetric flow rate of exhaust gases, dscm/hr (dscf/hr);

K1 = Conversion factor, 1 kg/1,000 g (1 lb/7,000 gr); and

P = Production rate, Mg/hr (ton/hr).

(2) Use Equation 7A of this section to determine compliance with an emission limit for D/F:

Where:

E = Emission rate of D/F, μg/Mg (gr/ton) of feed;

C = Concentration of D/F, μg/dscm (gr/dscf);

Q = Volumetric flow rate of exhaust gases, dscm/hr (dscf/hr); and

P = Production rate, Mg/hr (ton/hr).

* * * * *

7. Section 63.1516 is amended by revising the introductory text of paragraph (b) and paragraph (b)(2)(ii) to read as follows:

§ 63.1516 Reports.

* * * * *

(b) Excess emissions/summary report. The owner or operator must submit semiannual reports according to the requirements in § 63.10(e)(3). Except, the owner or operator must submit the semiannual reports within 60 days after the end of each 6-month period instead of within 30 days after the calendar half as specified in § 63.10(e)(3)(v). When no deviations of parameters have occurred, the owner or operator must submit a report stating that no excess emissions occurred during the reporting period.

* * * * *

(2) * * *

(ii) For each dross-only furnace: “Only dross and salt flux were used as the charge materials in any dross-only furnace during this reporting period.”

* * * * *

8. Table 2 to Subpart RRR of Part 63 is amended by revising the following “Group 1 furnace” entries to read as follows:

Table 2 to Subpart RRR of Part 63.—Summary of Operating Requirements for New and Existing Affected Sources and Emission Units
Affected source/emission unit | Monitor type/operation/process | Operating requirements
* * * * * * *
Group 1 furnace with lime-injected fabric filter (including those that are part of a secondary of aluminum processing unit). | Bag leak detector or | Initiate corrective action within 1-hr of alarm; operate such that alarm does not sound more than 5% of operating time in 6-month period; complete corrective action in accordance with the OM&M plan.ᵇ
| COM | Initiate corrective action within 1-hr of a 6-minute average opacity reading of 5% or more; complete corrective action in accordance with the OM&M plan.ᵇ
| Fabric filter inlet temperature | Maintain average fabric filter inlet temperature for each 3-hour period at or below average temperature during the performance test +14°C (+25° F).
| Reactive flux injection rate | Maintain reactive flux injection rate (kg/Mg) (lb/ton) at or below rate used during the performance test for each furnace cycle.
| Lime injection rate | Maintain free-flowing lime in the feed hopper or silo at all times for continuous injection systems; maintain feeder setting at level established at performance test for continuous injection systems.
| Maintain molten aluminum level | Operate sidewell furnaces such that the level of molten metal is above the top of the passage between sidewell and hearth during reactive flux injection, unless the hearth is also controlled.
| Fluxing in sidewell furnace hearth | Add reactive flux only to the sidewell of the furnace unless the hearth is also controlled.
Group 1 furnace without add-on controls (including those that are part of a secondary aluminum processing unit) | Reactive flux injection rate | Maintain reactive flux injection rate (kg/Mg) (lb/ton) at or below rate used during the performance test for each operating cycle or time period used in the performance test.
| Site-specific monitoring planᶜ | Operate furnace within the range of charge materials, contaminant levels, and parameter values established in the site-specific monitoring plan.
| Feed material (melting/holding furnace) | Use only clean charge.
* * * * * * *
ᵃ * * *
ᵇ OM&M plan—Operation, maintenance, and monitoring plan.
ᶜ Site-specific monitoring plan. Owner/operators of group 1 furnaces without control devices must include a section in their OM&M plan that documents work practice and pollution prevention measures, including procedures for scrap inspection, by which compliance is achieved with emission limits and process or feed parameter-based operating requirements. This plan and the testing to demonstrate adequacy of the monitoring plan must be developed in coordination with and approved by the permitting authority.

9. Table 3 to Subpart RRR of Part 63 is amended by revising the “Scrap dryer” entry to read as follows:

Table 3.—to Subpart RRR of Part 63.—Summary of Monitoring Requirements for New and Existing Affected Sources and Emission Units
Affected source/emission unit | Monitor type/operation/process | Monitoring requirements.
* * * * * * *
Scrap dryer/delacquering kiln/decoating kiln with afterburner and lime-injected fabric filter | Afterburner operating temperature. | Continuous measurement device to meet specifications in § 63.1510(g)(1); record temperature for each 15-minute block; determine and record 3-hr block averages.
| Afterburner operation | Annual inspection of afterburner internal parts; complete repairs in accordance with the OM&M plan.
| Bag leak detector or | Install and operate in accordance with “Fabric Filter Bag Leak Detection Guidance ᶜ; record voltage output from bag leak detector.
| COM | Design and Install in accordance with PS-1; collect data in accordance with subpart A of 40 CFR part 63; determine and record 6-minute block averages.
| Lime injection rate | For continuous injection systems, inspect each feed hooper or silo every 8 hours to verify that lime is free flowing; record results of each inspection. If blockage occurs, inspect every 4 hours for 3 days; return to 8-hour inspections if corrective action results in no further blockage during 3-day period, record feeder setting daily.
| Fabric filter inlet temperature. | Continous measurement device to meet specifications in § 63.1510(h)(2); record temperatures in 15-minute block averages; determine and record 3-hr block averages.
* * * * * * *
ᵃ * * *
ᵇ OM&M plan—Operation, maintenance, and monitoring plan.
ᶜ Site-specific monitoring plan. Owner/operators of group 1 furnaces without control devices must include a section in their OM&M plan that documents work practice and pollution prevention measures, including procedures for scrap inspection, by which compliance is achieved with emission limits and process or feed parameter-based operating requirements. This plan and the testing to demonstrate adequacy of the monitoring plan must be developed in coordination with and approved by the permitting authority.

10. Appendix A to Subpart RRR of Part 63 is amended by revising the entry for § 63.10(e)(3) to read as follows:

Appendix A to Subpart RRR—General Provisions Applicability to Subpart RRR

Citation | Requirement | Applies to RRR | Comment
* * * * * * *
§ 63.10(e)(3) | Excess Emissions/CMS Performance Reports | Yes | Reporting deadline given in § 63.1516.
* * * * * * *

[FR Doc. 04-20128 Filed 9-2-04; 8:45 am]

BILLING CODE 6560-50-P